DEPARTMENT OF COMMERCE

National Oceanic and Atmospheric Administration

Hydrographic Services Review Panel Meeting

AGENCY: National Ocean Service, National Oceanic and Atmospheric Administration (NOAA), Department of Commerce.

ACTION: Notice for open public virtual meeting, correction with a change of date, and request for comments.

SUMMARY: This serves as a correction and notice of a new meeting for the Hydrographic Services Review Panel (HSRP) who will have a virtual public meeting on April 28, 1 p.m. EDT, by webinar. This announcement is a correction and replaces the prior public meeting notice for a meeting scheduled for April 28-30, 2020. The meeting originally scheduled for April 28-30, 2020, which will focus on Hawaii and the Pacific, has been postponed to the week of September 21, 2020, in Oahu, Hawaii. For the virtual public meeting on April 28, 2020, 1 p.m. EDT, the public comments are requested in advance and/or during the public comment period. Information about the HSRP meetings, agendas, presentations, and advance webinar registration, is posted and updated online. The meeting documents will be available for downloading prior to the meeting at: https://www.nauticalcharts.noaa.gov/hsrp/hsrp.html and https://www.nauticalcharts.noaa.gov/hsrp/meetings.html.

DATES: The virtual public meeting is on April 28, 2020, 1 p.m. EDT.

ADDRESSES: The meeting will be conducted by webinar. The agenda, speakers and times are subject to change. For updates, please check online at the web page below or sign up to receive meeting emails. To receive the meeting announcements by email, including the agenda, please sign up via the tab for “Meeting Sign Up Information” on the meeting web page at https://www.nauticalcharts.noaa.gov/hsrp/meeting-webinar-2020.html or send an email to Virginia.Dentler@noaa.gov.

Advance registration is required for the April 28, 2020, webinar and can be found via the link: https://register.gotowebinar.com/rt/6546237546550851853.

Public comments are encouraged and individuals or groups who would like to submit advance written statements should email their comments to hydroservices.panel@noaa.gov, Lynne.Mersfelder@noaa.gov, and Virginia.Dentler@noaa.gov.

FOR FURTHER INFORMATION CONTACT: Lynne Mersfelder-Lewis, HSRP program manager, National Ocean Service, Office of Coast Survey, NOAA (N/CS), 1315 East-West Highway, SSMC3 #6413, Silver Spring, Maryland 20910, or email: hydroservices.panel@noaa.gov, Lynne.Mersfelder@noaa.gov, phone 240-533-0064, and Virginia.Dentler@noaa.gov.

SUPPLEMENTARY INFORMATION: The meeting is open to the public via webinar. Public comment is encouraged on the topics of the HSRP meeting and there is a public comment period scheduled in the agenda. Each individual or group making written comments will be limited to one comment per public comment period, the comment will be transcribed, and comments will become part of the meeting record. Comments or letters can be submitted in writing via email prior to the meeting or by email or in the chat function of the webinar during the meeting. The HSRP will provide webinar capability. Pre-registration is required to access the webinar as noted above.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. Past recommendations and issue papers are located online at: https://www.nauticalcharts.noaa.gov/hsrp/recommendations.html.

Past HSRP public meeting documents are located online at: https://www.nauticalcharts.noaa.gov/hsrp/meetings.html.

Matters To Be Considered

The panel is convening on issues relevant to NOAA's navigation services, including stakeholder use of navigation services data, products and services, Seabed 2030 and ocean mapping plans, hydrographic surveys, nautical charting including the Five-Year Plan for Sunsetting Traditional NOAA Paper Charts, the National Spatial Reference System (NSRS) and datums updates for 2022, legislative priorities and other topics. Navigation services include the data, products, and services provided by the NOAA programs and activities that undertake geodetic observations, gravity modeling, shoreline mapping, bathymetric mapping, hydrographic surveying, nautical charting, tide and water level observations, current observations, flooding, inundation and sea level rise, marine modeling, and related topics. This suite of NOAA products and services support safe and efficient navigation, resilient coasts and communities, and the nationwide positioning information infrastructure to support America's commerce. The Panel will hear about the mission and use of NOAA's navigation services, the value these services bring, and what improvements could be made. Other administrative matters may be considered. The agenda, speakers and time are subject to change, please refer to the website for the most updated information.

Special Accommodations

This meeting is physically accessible to people with disabilities. Please direct requests for sign language interpretation or other auxiliary aids to hydroservices.panel@noaa.gov, Lynne.Mersfelder@noaa.gov and Virginia.Dentler@noaa.gov at least 10 days in advance of the meeting.

Shepard M. Smith,
Director, Office of Coast Survey, National Ocean Service, National Oceanic and Atmospheric Administration.

[FR Doc. 2020-07352 Filed 4-7-20; 8:45 am]

BILLING CODE 3510-JE-P